DEPARTMENT OF LABOR

Office of the Secretary

Submission for OMB Review; Comment Request

January 28, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New.

Agency: Employment and Training Administration.

Title: Revising Quarterly Contribution and Wage Reports to Accommodate Expanded Name Fields and Additional Labor Market Information.

OMB Number: 1205-0New.

Affected Public: State, Local, or Tribal Government.

Frequency: One-time.

Number of Respondents: 53.

Estimated Time Per Respondent: 100 Hours.

Total Burden Hours: 5,300.

Total Annualized capital/startup costs: $0.

Total annual costs (operating/maintaining systems or purchasing services): $0.

Description: The information collected with this survey is necessary to assess the burden employers and SESAs would experience if the quarterly contribution and wage reports filed by employers and processed by SESAs were revised to accommodate full names and additional labor market information (LMI). The full name fields are necessary to enhance the efficiency of the National Directory of New Hires database in locating the employment of individuals who are not meeting their parental responsibilities. The additional LMI data are needed to improve the ability to accurately assess the value of various Workforce Investment Act vocational training programs and to enrich the pool of LMI data available.

Type of Review: Reinstatement, with change, of a previously approved collection for which approval has expired.

Agency: Employment and Training Administration.

Title: Standard Job Corps Request for Proposal and Related Contractor Information Gathering.

OMB Number: 1205-0219.

Affected Public: Business or other for-profit; Not-for-profit institutions; Federal Government; State, Local, or Tribal Government.

Recurring Periodic Job Corps Reports
Required activity | ETA form No. | Number of respondents | Annual frequency | Total annual responses | Annual burden per respondent | Total burden hours
Inspection Residential & Educational Facilities | 6-37 | 114 | 4 | 456 | 1 | 456
Inspection Water Supply Facilities | 6-38 | 114 | 4 | 456 | 1.25 | 570
Inspection of Waste Treatment Facilities | 6-39 | 114 | 4 | 456 | 1.25 | 570
Program Description—Narrative Section | 6-124 | 114 | 1 | 114 | 1 | 114
Job Corps Health Staff Activity | 6-125 | 114 | 1 | 114 | .25 | 29
Job Corps Health Annual Service Costs | 6-128 | 114 | 1 | 114 | .25 | 29
Job Corps Utilization Summary | 6-127 | 114 | 12 | 1368 | 2 | 2,736
Center Financial Report | 2110 | 114 | 12 | 1368 | 3.25 | 4,446
Center Operations Budget | 2181/2181A | 250 | 2 | 500 | 2.00 | 1,000
WSSR Log | 6-142B |  |  |  |  | 900
Total Burden |  |  |  |  |  | 10,850

Job Corps Non-Periodic Reports
Required activity | ETA form No. | Number of respondents | Annual frequency | Total annual responses | Annual burden per respondent | Total burden hours
Property inventory transcript | 3-28 | 175 | 12 | 2100 | .75 | 1,575
Disciplinary discharge | 6-131A | 1500 | 1 | 1500 | .5 | 750
Review board hearings | 6-131B | 1500 | 1 | 1500 | .10 | 150
Rights to appeal | 6-131C | 1500 | 1 | 1500 | .10 | 150
Total Burden |  |  |  |  |  | 2,625

Job Corps Center Plans
Required activity | ETA form No. | Number of respondents | Annual frequency | Total annual responses | Annual burden per respondent | Total burden hours
Center operation plan |  | 86 | 1 | 86 | 30 | 2,580
Maintenance |  | 114 | 1 | 114 | 5 | 570
C/M Welfare |  | 114 | 1 | 114 | 2 | 228
Annual VST (if applicable) |  | 114 | 1 | 114 | 4 | 456
Annual staff training |  | 114 | 1 | 114 | 1 | 114
Energy Conservation |  | 114 | 1 | 114 | 5 | 570
Outreach (if applicable) |  | 114 | 1 | 114 | 2 | 228
Total Burden |  |  |  |  |  | 4,746

Student Records
Required activity | ETA form No. | Number of respondents | Annual frequency | Total annual responses | Annual burden per respondent | Total burden hours
Allowance & allotment change | 6-101 |  |  |  |  |
Forms transmittal letter | 6-102 |  |  |  |  |
Signature card | 6-103 |  |  |  |  |
Voucher for allocation for living expense | 6-104 |  |  |  |  |
Initial allowance authorization | 6-106 |  |  |  |  |
Receipt for taxable clothing and transportation | 6-105 |  |  |  |  |
Receipt for cash payment | 6-107 |  |  |  |  |
Receipt for miscellaneous cash collections | 6-108 |  |  |  |  |
Total burden |  |  |  |  |  | 7,800

Data from the automated forms listed above are being collected from data input screens which are transmitted electronically to a centralized database. This data are then processed for management and performance reports and ad hoc queries at a Center, contractor, regional and national level. The deletion of these forms significantly reduced paper and mailing of hard copy documents.

Personnel Requirements
Required activity | ETA form No. | Number of respondents | Annual frequency | Total annual responses | Annual burden per respondent | Total burden hours
Notice of termination | 6-61 | 60000 | 1 | 60000 | .03 (2 min.) | 1,800
Student profile | 6-640 | 60000 | 1 | 60000 | .017 (1 min.) | 1,020
Academic achievement cert. | 6-99 | 50 | 20 | 1000 | .10 (6 min.) | 100
Total Burden |  |  |  |  |  | 2,900

Non-Standard Medical Records
Required activity | ETA form No. | Number of respondents | Annual frequency | Total annual responses | Annual burden per respondent | Total burden hours
Immunication record | 6-112 | 60000 | 1 | 60000 | .10 | 6,000
CM Health record envelope | 6-135 | 60000 | 1 | 60000 | .25 | 15,000
CM Health record folder | 6-136 | 60000 | 1 | 60000 | .25 | 15,000
Total Burden |  |  |  |  |  | 36,000

Standard Job Corps Center Request for proposals (RFPS): 19,800 hours.

Total Burden Hours: 84,741.

Total Annualized capital/startup costs: $0.

Total annual costs (operating/maintaining systems or purchasing services): $0.

Description: Standard Request for Proposal for the operation of a Job Corps Center completed by prospective contractors for competitive procurements and Federal paperwork requirements for contract operators of such centers.

Ira L. Mills,
Departmental Clearance Officer.

[FR Doc. 00-2645 Filed 2-4-00; 8:45 am]

BILLING CODE 4510-30-M